INTERNATIONAL TRADE COMMISSION

[Investigation No. 337-TA-1162]

Certain Touch-Controlled Mobile Devices, Computers, and Components Thereof; Commission Determination Not To Review an Initial Determination Amending the Complaint and Notice of Investigation To Substitute Respondents Dell Inc. and Dell Products LP for Respondent Dell Technologies Inc.

AGENCY: U.S. International Trade Commission.

ACTION: Notice.

SUMMARY: Notice is hereby given that the U.S. International Trade Commission (“Commission”) has determined not to review an initial determination (“ID”) (Order No. 12) that grants an unopposed motion to amend the complaint and notice of investigation to substitute new respondents Dell Inc. and Dell Products LP for original respondent Dell Technologies Inc. in the above-identified investigation.

FOR FURTHER INFORMATION CONTACT: Ron Traud, Office of the General Counsel, U.S. International Trade Commission, 500 E Street SW, Washington, DC 20436, telephone 202-205-3427. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server at https://www.usitc.gov. The public record for this investigation may be viewed on the Commission's electronic docket (“EDIS”) at https://edis.usitc.gov. Hearing-impaired persons are advised that information on this matter can be obtained by contacting the Commission's TDD terminal, telephone 202-205-1810.

SUPPLEMENTARY INFORMATION: The Commission instituted this investigation on June 24, 2019, based on a complaint filed by Neodron Ltd. of Dublin, Ireland (“Neodron”). 84 FR 29545 (June 24, 2019). The complaint, as amended, alleges violations of section 337 of the Tariff Act of 1930, as amended, 19 U.S.C. 1337 (“section 337”), based upon the importation into the United States, the sale for importation, and the sale within the United States after importation of certain touch-controlled mobile devices, computers, and components thereof by reason of infringement of certain claims of U.S. Patent Nos. 8,432,173; 8,791,910; 9,024,790; and 9,372,580. Id. The amended complaint further alleges that an industry in the United States exists as required by section 337. Id. The notice of investigation named as respondents Amazon.com, Inc. of Seattle, Washington; Dell Technologies Inc. of Round Rock, Texas; HP Inc. of Palo Alto, California; Lenovo Group Ltd. of Beijing, China; Lenovo (United States) Inc. of Morrisville, North Carolina; Microsoft Corporation of Redmond, Washington; Motorola Mobility LLC of Chicago, Illinois; Samsung Electronics Co., Ltd. of Suwon, South Korea; and Samsung Electronics America, Inc. of Ridgefield Park, New Jersey. Id. The Office of Unfair Import Investigations was not named as a party to the investigation. Id.

On September 23, 2019, Neodron filed an unopposed motion seeking leave to amend the complaint and notice of investigation to substitute new respondents Dell Inc. and Dell Products LP, both of Round Rock, Texas, for original respondent Dell Technologies Inc.

On September 25, 2019, the ALJ issued Order No. 12, the subject ID, which grants the motion. The ID finds that Neodron's motion complies with 19 CFR 210.14(b)(1) and that granting the motion will not prejudice the public interest or the rights of the parties. No petitions for review were filed.

The Commission has determined not to review the subject ID.

The authority for the Commission's determination is contained in section 337 of the Tariff Act of 1930, as amended (19 U.S.C. 1337), and in part 210 of the Commission's Rules of Practice and Procedure (19 CFR part 210).

By order of the Commission.
Issued: October 11, 2019.
Lisa Barton,
Secretary to the Commission.

[FR Doc. 2019-22647 Filed 10-16-19; 8:45 am]

BILLING CODE 7020-02-P